POSTAL RATE COMMISSION

38 CFR 3001, 3002 AND 3003

[Docket No. RM2005-4; Order No. 1442]

Nomenclature Changes

AGENCY: Postal Rate Commission.

ACTION: Final rule.

SUMMARY: The Commission is adopting minor nomenclature changes in provisions appearing in the Code of Federal Regulations, including the rules of practice. The changes reflect the agency's relocation of its physical offices. Adoption of these changes will provide the public with accurate information about the Commission's new address.

DATES: These changes are effective August 29, 2005.

ADDRESSES: Submit comments electronically via the Commission's Filing Online system, which can be accessed at http://www.prc.gov.

FOR FURTHER INFORMATION CONTACT: Stephen L. Sharfman, General Counsel, 202-789-6818.

SUPPLEMENTARY INFORMATION: This order provides notice of the Commission's adoption of minor nomenclature changes in various provisions codified at 39 CFR parts 3001 through 3003. These changes are required because the Commission is relocating from 1333 H Street, NW., Suite 300, Washington, DC 20268-0001 to 901 New York Avenue, NW., Suite 200, Washington, DC 20268-0001. The effective date of the changes is August 29, 2005. The revisions do not entail any changes to existing telephone numbers, ZIP Code, e-mail addresses or the Commission's Web site address (http://www.prc.gov).

I. Physical address

References to the Commission's current physical address are being replaced whenever they appear with the Commission's new physical address. This affects 39 CFR 3001.9; 43(e)(4)(i); 3001.110 and 116; 39 CFR 3002.3(c); and 39 CFR 3003.3.

II. Notice of Adoption of Changes and Effective Date

Given the nature and limited extent of these changes, the Commission is adopting them as a direct final rule. The effective date is August 29, 2005, which coincides with the continuation of official business at the new location. The Commission directs the Secretary to arrange for publication of this order in the Federal Register.

It is ordered:

1. The Commission adopts the nomenclature changes referred to in the body of this order, effective August 29, 2005.

2. The Secretary shall arrange for publication of this order in the Federal Register.

Issued: August 10, 2005.
By the Commission.
Steven W. Williams,
Secretary.

List of Subjects in 39 CFR Parts 3001, 3002 and 3003

Administrative practice and procedure, Postal Service.

For the reasons stated in the preamble, the Commission amends 39 CFR parts 3001, 3002, and 3003 as follows:

PART 3001—RULES OF PRACTICE AND PROCEDURE

1. The authority citation for part 3001 continues to read as follows:

Authority: 39 U.S.C. 404(b); 3603; 3622-24; 3661; 3662; 3663.

2. Amend part 3001 by replacing the words “1333 H Street NW., Suite 3000,” wherever they appear with the words “901 New York Avenue NW., Suite 200.”

PART 3002—RULES OF PRACTICE AND PROCEDURE

1. The authority citation for part 3002 continues to read as follows:

Authority: 39 U.S.C. 3603; 5 U.S.C. 552.

2. Amend part 3002 by replacing the words “1333 H Street NW., Suite 300,” wherever they appear with the words “901 New York Avenue NW., Suite 200,”.

PART 3003-PRIVACY ACT RULES

1. The authority citation for part 3003 continues to read as follows:

Authority: Privacy Act of 1974 (Pub. L. 93-579); 5 U.S.C. 552a.

2. Amend part 3003 by replacing the words “1333 H Street NW., Suite 300,” wherever they appear with the words “901 New York Avenue NW., Suite 200.”

[FR Doc. 05-16219 Filed 8-16-05; 8:45 am]

BILLING CODE 7910-FW-M